DEPARTMENT OF JUSTICE

Antitrust Division

Notice Pursuant to the National Cooperative Research and Production Act of 1993—Secure Content Storage Association, LLC

Notice is hereby given that, on May 3, 2012, pursuant to Section 6(a) of the National Cooperative Research and Production Act of 1993, 15 U.S.C. 4301 et seq. (“the Act”), the Secure Content Storage Association, LLC (“SCSA”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Warner Bros. Entertainment Inc., Burbank, CA; Twentieth Century Fox Innovations, Inc., Los Angeles, CA; SanDisk Corporation, Milpitas, CA; and Western Digital Technologies, Inc., Irvine, CA.

The general area of SCSA's planned activity is to develop, acquire, own, license and promote technology to facilitate the distribution, use and sale of digital content while allowing content owners to prevent the unauthorized interception, copying and redistribution of that content. This technology will include, but is not necessarily limited to, methods for data encryption, encrypting key management, encryption renewability, and forensic tracing (the “Technology”). The parties anticipate the relevant content will be valuable commercial content protected by copyrights and other intellectual property rights. The Technology is intended to interact with other suitable content protection technologies in order to promote the flexible use of such content by consumers while continuing to maintain appropriate security. Through a limited liability corporation formed by the parties or their affiliates, the parties will promote and license the Technology to facilitate broad adoption and enable new lines of business in affected industries.

In furtherance of the purposes stated above, the parties and their affiliates may, among other things, engage in theoretical analysis; experimentation; systematic study; research; development; testing; extension of investigative findings or theories of a scientific or technical nature into practical application for experimental and demonstration purposes; collection, exchange and analysis of research or production information; solicitation from industry of feedback on specifications and licenses; develop, publish and license specifications pertaining to the protection of high value digital content on a variety of consumer devices; enter into agreements to carry out the objectives of the parties; establish and operate facilities in the United States for conducting such venture; conduct such venture on a protected and proprietary basis; prosecute applications for patents and grant licenses for the results of such venture; and any combination of these activities.

Patricia A. Brink,
Director of Civil Enforcement, Antitrust Division.

[FR Doc. 2012-13971 Filed 6-7-12; 8:45 am]

BILLING CODE 4410-11-P